DEPARTMENT OF HOUSING AND URBAN DEVELOPMENT

[Docket No. FR-5740-N-01]

60-Day Notice of Proposed Information Collection: HUD Multifamily Rental Project Closing Documents Renewal of Currently Approved Collection

AGENCY: Office of the Assistant Secretary for Housing-Federal Housing Commissioner HUD.

ACTION: Notice.

SUMMARY: HUD is seeking approval from the Office of Management and Budget (OMB) for the information collection described in this notice. In accordance with the Paperwork Reduction Act, HUD is requesting comment from all interested parties on this proposed collection of information. The purpose of this notice is to allow for 60 days of public comment on HUD's proposed renewal of its currently approved collection.

DATES: Comments Due Date: December 30, 2013.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov, or telephone 202-402-3400. This is not a toll-free number. Persons with hearing or speech impairments may access this number through TTY by calling the toll-free Federal Relay Service at (800) 877-8339.

Copies of available documents to be submitted to OMB may be found at: http://portal.hud.gov/hudportal/HUD?src=/program_offices/housing/mfh/mfhclosingdocuments. Please note that HUD will not consider any redline/strikeout comparison documents submitted by commenters, as it is far too inefficient for the Department to consolidate and consider redline/strikeout versions of each of the documents from numerous interested parties, based on HUD's past experience in seeking public comments on the FHA multifamily closing documents. HUD will only consider proposed changes to the documents listed below that are submitted in narrative and/or bulleted form, accompanied by a detailed explanation and rationale for each requested change. Commenters may include in their narrative or bullet points the relevant excerpt(s) from the document(s) with redlines/strikeouts, accompanied with a detailed explanation and rationale for the changes.

A. Overview of Information Collection

Title of Information Collection: Multifamily Rental Project Closing Documents.

OMB Approval Number: 2502-0598.

Type of Request: Extension of currently approved collection (with proposed HUD-initiated technical and substantive modifications based on information and experiences of HUD staff working with the documents since 2011) and two proposed new forms, as further discussed in this notice.

Form Number: Please see below.

Description of the need for the information and proposed use: These are closing documents (Closing Documents) used in Federal Housing Administration (FHA) multifamily rental projects. The documents included in the proposed collection of information, including where applicable redline/strikeout versions showing proposed changes to documents currently in use, have been posted on HUD's Web site at: http://portal.hud.gov/hudportal/HUD?src=/program_offices/housing/mfh/mfhclosingdocuments.

Estimated Burden: Please see following table.

Information collection | Number of respondents | Frequency of response | Responses per annum | Burden hours per response | Annual burden hours | Hourly cost | Total annual cost
HUD-91710M | 600 | 1 | 600 | 0.5 | 300 | $26 | $700
HUD-91712M | 600 | 1 | 600 | 0.5 | 300 | 26 | 7,800
HUD-92023M | 1250 | 1 | 1250 | 1 | 1250 | 26 | 32,500
HUD-92070M | 60 | 1 | 60 | 0.5 | 30 | 26 | 780
HUD-92223M | 600 | 1 | 600 | 0.5 | 300 | 26 | 7,800
HUD-92412M | 175 | 1 | 175 | 0.5 | 87.50 | 26 | 2,275
HUD-92414M | 1250 | 1 | 1250 | 0.5 | 625 | 26 | 16,250
HUD-92450M | 175 | 1 | 175 | 0.5 | 87.50 | 26 | 2,275
HUD-92452A-M | 175 | 1 | 175 | 0.5 | 87.50 | 26 | 2,275
HUD-92452M | 175 | 1 | 175 | 0.5 | 87.50 | 26 | 2,275
HUD-92455M | 1075 | 1 | 1075 | 1 | 1075 | 26 | 27,950
HUD-92456M | 175 | 1 | 175 | 0.5 | 87.50 | 26 | 2,275
HUD-91073M | 1250 | 1 | 1250 | 0.5 | 625 | 26 | 16,250
HUD-92464M | 1250 | 1 | 1250 | 1 | 1250 | 46 | 57,500
HUD-92476.1M | 1075 | 1 | 1075 | 0.5 | 537.50 | 26 | 13,975
HUD-92476a-M | 175 | 1 | 175 | 0.5 | 87.50 | 26 | 2,275
HUD-92477M | 175 | 1 | 175 | 0.5 | 87.50 | 26 | 2,275
HUD-92478M | 1250 | 1 | 1250 | 0.5 | 625 | 26 | 16,250
HUD-92479M | 175 | 1 | 175 | 0.5 | 87.50 | 26 | 2,275
HUD-91725M | 1250 | 1 | 1250 | 1 | 1250 | 125 | 156,250
HUD-91725M-CERT | 1250 | 1 | 1250 | 1 | 1250 | 46 | 57,500
HUD-91725M-INST | 0 | 0 | 0 | 0 | 0 | 0 | 0
HUD-92434M | 175 | 1 | 175 | 1 | 175 | 26 | 4,550
HUD-92441M-SUPP | 175 | 1 | 175 | .75 | 131.25 | 26 | 3,412.50
HUD-92441M | 175 | 1 | 175 | .75 | 131.25 | 26 | 3,412.50
HUD-92442M | 175 | 1 | 175 | 1 | 175 | 58 | 10,150
HUD-92466M | 1250 | 1 | 1250 | 1 | 1250 | 58 | 72,500
HUD-92554M | 175 | 1 | 175 | 0.5 | 87.50 | 26 | 2,275
HUD-94000M | 1250 | 1 | 1250 | 0.75 | 937.5 | 26 | 24,375
HUD-94001M | 1250 | 1 | 1250 | 1 | 1250 | 26 | 32,500
HUD-93305M | 1250 | 1 | 1250 | 0.5 | 625 | 26 | 16,200
HUD-92476M | 20 | 1 | 20 | 0.5 | 10 | 26 | 200
HUD-92420M | 600 | 1 | 600 | 0.5 | 300 | 26 | 7,800
HUD-92408M | 1250 | 1 | 600 | 2 | 2500 | 103 | 257,500
HUD-91070M | 1250 | 1 | 1250 | 0.5 | 625 | 36 | 22,500
HUD-91071M | 20 | 1 | 20 | 0.5 | 10 | 26 | 260
Totals |  |  | 23,175 |  | 18,325 |  | 894,550.00

The hourly rate is an estimate based on an average annual salary of 62,000 for developers and mortgagees.

B. Solicitation of Public Comment

This notice is soliciting comments from members of the public and affected parties concerning the collection of information described in this notice on the following:

(1) Whether the proposed collection of information is necessary for the proper performance of the functions of the agency, including whether the information will have practical utility.

(2) The accuracy of the agency's estimate of the burden of the proposed collection of information.

(3) Ways to enhance the quality, utility, and clarity of the information to be collected or any content of the Closing Documents.

(4) Ways to minimize the burden of the collection of information on those who are to respond; including through the use of appropriate automated collection techniques or other forms of information technology, e.g., permitting electronic submission of responses.

(5) With respect to the Construction Contract (HUD-92442M) and the HUD Amendment to AIA Document B108 (HUD-92408-M) (“Owner-Architect Agreement”), are there states with attorney fee shifting statutes that favor contractors and/or architects, such that contractors and/or architects are awarded attorney's fees when they prevail against owners in litigation, but owners who prevail are not similarly awarded attorney's fees unless there is an explicit provision for such awards in the construction contract or owner-architect agreement? If so, does this create an imbalance between the parties that HUD should address in these form documents? Further, irrespective of whether such state fee shifting statutes exist, should the Construction Contract (HUD-92442M) and the HUD Amendment to AIA Document B108 (HUD-92408-M) be revised to include a provision allowing attorney fees to the prevailing party in litigation?

(6) Whether the new form, Consolidated Certifications—Borrower (HUD-91070M), improves efficiency by consolidating all the certifications the borrower is required to make in a single form.

(7) Whether the new form, Escrow Agreement for Off-site Facilities (HUD-91071M), effectively streamlines, updates and standardizes an outdated and difficult to locate form used in certain situations when there is required work to be performed away from the HUD project site by combining HUD's requirements for the escrow for off-site work with the more modern approach taken in HUD's other escrow forms used in FHA-insured multifamily rental closings.

HUD encourages interested parties to submit comment in response to these questions.

Authority: Section 3507 of the Paperwork Reduction Act of 1995, 44 U.S.C. Chapter 35.

Dated: October 23, 2013.
Laura M. Marin,
Associate General Deputy Assistant Secretary for Housing-Associate Deputy Federal Housing Commissioner.

[FR Doc. 2013-25574 Filed 10-28-13; 8:45 am]

BILLING CODE 4210-67-P